DEPARTMENT OF HEALTH AND HUMAN SERVICES

Administration for Community Living

Agency Information Collection Activities: Proposed Collection; Public Comment Request; Traumatic Brain Injury (TBI) State Partnership Program Performance Measures (OMB Control Number 0985-0066)

AGENCY: Administration for Community Living, Department of Health and Human Services.

ACTION: Notice.

SUMMARY: The Administration for Community Living (ACL) is announcing an opportunity for the public to comment on the proposed collection of information listed above. Under the Paperwork Reduction Act of 1995 (PRA), Federal agencies are required to publish a notice in the Federal Register concerning each proposed collection of information, including each proposed extension of an existing collection of information, and to allow 60 days for public comment in response to the notice.

This IC Extension solicits comments on the information collection requirements relating to the Traumatic Brain Injury (TBI) State Partnership Program.

DATES: Comments on the collection of information must be submitted electronically by 11:59 p.m. (EST) or postmarked by November 29, 2022.

ADDRESSES: Submit electronic comments on the collection of information to: Elizabeth Leef at Elizabeth.Leef@acl.hhs.gov. Submit written comments on the collection of information to Administration for Community Living, 330 C Street SW, Washington, DC, 20201, Attention: Elizabeth Leef.

FOR FURTHER INFORMATION CONTACT: Elizabeth Leef, phone (202) 475-2482 or email Elizabeth.Leef@acl.hhs.gov.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates;

(3) ways to enhance the quality, utility, and clarity of the information to be collected; and

(4) ways to minimize the burden of the collection of information on respondents, including through the use of automated collection techniques when appropriate, and other forms of information technology.

The purpose of the Federal Traumatic Brain Injury (TBI) State Partnership Program is to create and strengthen a system of services and supports that maximizes the independence, well-being, and health of people with TBIs across the lifespan and all other demographics, their family members, and support networks. The TBI State Partnership Program funds the development and implementation of statewide systems that ensure access to TBI related services, including transitional services, rehabilitation, education and employment, and long-term community support. To best monitor, guide, and support TBI State Partnership Program grantees, ACL needs regular information about the grantees' activities and outcomes. The simplest, least burdensome, and most useful way to accomplish this goal is to require grantees to submit information as part of their required semiannual reports via the proposed electronic data submission instrument (appendix A).

In 1996, the Public Health Service Act was amended “to provide for the conduct of expanded studies and the establishment of innovative programs with respect to traumatic brain injury, and for other purposes” (Pub. L. 104-166). This legislation allowed for the implementation of “grants to States for the purpose of carrying out demonstration projects to improve access to health and other services regarding traumatic brain injury.” The TBI Reauthorization Act of 2014 (Pub. L. 113-196) allowed the Department of Health and Human Services Secretary to review oversight of the Federal TBI programs (TBI State Partnership Grant program and the TBI Protection and Advocacy program) and reconsider which operating division should lead them. With avid support from TBI stakeholders, the Secretary found that the goals of the Federal TBI programs closely align with ACL's mission to advance policy and implement programs that support the rights of older Americans and people with disabilities to live in their communities. As a result, on Oct. 1, 2015, the Federal TBI programs moved from the Health Resources and Services Administration to ACL. These programs were reauthorized again by the Traumatic Brain Injury Reauthorization Act of 2018 (Pub. L. 115-377).

The performance measures are consistent with both the TBI State Partnership Program's purpose and ACL's mission. The 2010 Government Performance Results Modernization Act ¹ requires Federal agencies to develop annual and long-term performance outcome measures and to report on these measures annually. ACL sees the GPRA Modernization Act as an opportunity to document annually the results that are produced through the programs it administers under the authority for the TBI State Partnership Program. It is the intent and commitment of ACL, in concert with grantees, to use the performance measurement tools of GPRAMA to continuously improve its programs and services.

¹ http://www.gao.gov/key_issues/managing_for_results_in_government/issue_summary.

The proposed data collection tools may be found on the ACL website for review at: https://www.acl.gov/about-acl/public-input.

Estimated Program Burden: ACL estimates the burden of this collection of information as follows:

Instrument | Number of respondents | Number of responses (per respondent) | Average burden hours (per response) | Total burden hours
Semiannual Performance Measures Report | 27 | 2 | 8 | 432
Estimated Total Annual Burden Hours: |  |  |  | 432

States will likely expend varying amounts of time completing data submissions. The estimate above is based upon states that invest considerable attention to submitting comprehensive, accurate data.

The estimate of future levels of effort assumes the following:

• The length of the grant funding is three years, except for the three grants awarded in FY19 that will only have funding for two years.

• The annual burden may decrease after the first entry of data into the system by the grantees. Once the data for the first report has been entered, subsequent reports will only require updated data and, therefore, less effort.

• The annual burden may decrease if the same individuals compile the required data, because they will become more adept at finding the information and submitting the report.

The estimated Performance Measures Report annual burden is based upon an average hourly salary of $46.00 for state programmatic staff. Across all respondents, assuming a group of 27 grantees, the programmatic staff total average annual burden is estimated at 432 hours at $46 per hour for a total of $19,872.

Dated: September 23, 2022.
Alison Barkoff,
Acting Administrator and Assistant Secretary for Aging.

[FR Doc. 2022-21282 Filed 9-29-22; 8:45 am]

BILLING CODE 4154-01-P